DEPARTMENT OF THE INTERIOR

National Park Service

[NPS-WASO-NAGPRA-NPS0026149; PPWOCRADN0-PCU00RP14.R50000]

Notice of Inventory Completion: Brooklyn Museum, Brooklyn, NY

AGENCY: National Park Service, Interior.

ACTION: Notice.

SUMMARY: The Brooklyn Museum has completed an inventory of associated funerary objects, in consultation with the appropriate Indian Tribes or Native Hawaiian organizations, and has determined that there is a cultural affiliation between the associated funerary objects and present-day Indian Tribes or Native Hawaiian organizations. Lineal descendants or representatives of any Indian Tribe or Native Hawaiian organization not identified in this notice that wish to request transfer of control of these associated funerary objects should submit a written request to the Brooklyn Museum. If no additional requestors come forward, transfer of control of the associated funerary objects to the lineal descendants, Indian Tribes, or Native Hawaiian organizations stated in this notice may proceed.

DATES: Lineal descendants or representatives of any Indian Tribe or Native Hawaiian organization not identified in this notice that wish to request transfer of control of these associated funerary objects should submit a written request with information in support of the request to the Brooklyn Museum at the address in this notice by September 24, 2018.

ADDRESSES: Nancy Rosoff, Andrew W. Mellon Senior Curator, Arts of the Americas, Brooklyn Museum, 200 Eastern Parkway, Brooklyn, NY 11238, telephone (718) 501-6283, email nancy.rosoff@brooklynmuseum.org.

SUPPLEMENTARY INFORMATION: Notice is here given in accordance with the Native American Graves Protection and Repatriation Act (NAGPRA), 25 U.S.C. 3003, of the completion of an inventory of associated funerary objects under the control of the Brooklyn Museum, Brooklyn, NY. The associated funerary objects were removed from Canyon del Muerto, Apache County, AZ.

This notice is published as part of the National Park Service's administrative responsibilities under NAGPRA, 25 U.S.C. 3003(d)(3). The determinations in this notice are the sole responsibility of the museum, institution, or Federal agency that has control of the Native American associated funerary objects. The National Park Service is not responsible for the determinations in this notice.

Consultation

A detailed assessment of the associated funerary objects was made by the Brooklyn Museum professional staff in consultation with representatives of Colorado River Indian Tribes of the Colorado River Indian Reservation, Arizona and California; Hopi Tribe of Arizona; Navajo Nation, Arizona, New Mexico & Utah; Pueblo of Acoma, New Mexico; Ute Indian Tribe of the Uintah & Ouray Reservation, Utah; and Zuni Tribe of the Zuni Reservation, New Mexico (hereafter referred to as “The Consulted Tribes”).

History and Description of the Associated Funerary Objects

The associated funerary objects and the mummified remains of a man were removed from an unidentified site within Canyon del Muerto in Apache County, AZ, by Charles L. Day at an unknown date prior to April 1903. In April 1903, Brooklyn Museum curator Stewart Culin purchased the associated funerary objects and human remains from Day. Culin's catalog cards indicate that the associated funerary objects were found with the human remains. In 1907, the human remains were transferred to the Field Museum of Natural History, Chicago, IL. The human remains can be found in the Field Museum of Natural History's culturally unidentifiable inventory. The two associated funerary objects are one fragmented arrow shaft and one bow with cord.

The arrow fragments and bow are Ancestral Puebloan and date to the Pueblo I-III Periods (700-1300 C.E.). This determination was made by Susan Kennedy Zeller, former Associate Curator of Native American Art, on August 8, 1996, on the basis of parallel materials found within the archeological literature. Canyon del Muerto is located within the Western Ancestral Puebloan cultural area. Archeologically, this cultural area is characterized by a temporal shift from subterranean pit houses to above-ground masonry rooms surrounding plazas, rectangular kivas, and a wide variety of regionally distinct painted ceramics. Other archeological sites within Canyon del Muerto indicate sustained Ancestral Puebloan occupation from the late Basketmaker II through the Pueblo III Periods. After the start of the Pueblo III Period, around 1300 C.E., the archeological evidence suggests that much of the population living within Canyon del Muerto moved to other settlements.

The associated funerary objects were examined during consultations by representatives from The Tribes during 1996 and 1997, as part of the Brooklyn Museum's 1996 NAGPRA Grant.

The Colorado River Tribes of the Colorado River Reservation, Arizona and California are composed of four distinct tribes: the Mohave, Chemehuevi, Hopi, and Navajo. Evidence for a cultural affiliation between the Ancestral Puebloan occupants of Canyon del Muerto and the Colorado River Tribes of the Colorado River Reservation, Arizona and California includes similarities in material culture and architectural design, as well as archeological data and oral tradition. Canyon del Muerto lies within traditional Hopi territory, and Hopi oral tradition speaks of clan migrations through the Canyon de Chelly region, of which Canyon del Muerto is a part.

Evidence for cultural affiliation between the Ancestral Puebloan occupants of Canyon del Muerto and the Hopi Tribe of Arizona includes similarities in material culture and architectural design, as well as archeological data, geographic proximity, and oral tradition. The Hopi Tribe of Arizona considers all of Arizona to either lie within traditional Hopi territory or to be a territory through which Hopi clans migrated.

Evidence for cultural affiliation between the Ancestral Puebloan occupants of Canyon del Muerto and the Navajo Nation, Arizona, New Mexico & Utah, includes expert opinion and geographic proximity. Canyon del Muerto lies within the aboriginal lands of the Navajo Nation, as established by the Indian Claims Commission. Navajo consultants in 1997 did not specifically comment on the cultural affiliation of the associated funerary objects. However, the Navajo Nation maintains that it is affiliated with material and human remains from Canyon de Chelly.

Evidence for cultural affiliation between the Ancestral Puebloan occupants of Canyon del Muerto and the Pueblo of Acoma includes similarities in material culture and architectural design, expert opinion, and oral tradition. The Pueblo of Acoma asserts a cultural affiliation with archeological sites within the Four Corners area. During a 1997 consultation visit to the Brooklyn Museum, Pueblo of Acoma representatives stated that they consider Puebloan archeological material from Canyon del Muerto to be ancestral to them.

Evidence for cultural affiliation between the Ancestral Puebloan occupants of Canyon del Muerto and the Zuni Tribe of the Zuni Reservation includes similarities in material culture and architectural design, expert opinion, geographic proximity, and oral tradition. Zuni Tribe representatives explained during a 1996 consultation that they do not distinguish between their Ancestral Puebloan ancestors and themselves, and referred to both the earlier and present-day groups as Zuni.

Determinations Made by the Brooklyn Museum

Officials of the Brooklyn Museum have determined that:

• Pursuant to 25 U.S.C. 3001(3)(A), the two objects described in this notice are reasonably believed to have been placed with or near individual human remains at the time of death or later as part of the death rite or ceremony.

• Pursuant to 25 U.S.C. 3001(2), there is a relationship of shared group identity that can be reasonably traced between the Native American associated funerary objects and the Colorado River Indian Tribes of the Colorado River Indian Reservation, Arizona and California; Hopi Tribe of Arizona; Navajo Nation, Arizona, New Mexico & Utah; Pueblo of Acoma, New Mexico; and Zuni Tribe of the Zuni Reservation, New Mexico (hereafter referred to as “The Tribes”).

Additional Requestors and Disposition

Lineal descendants or representatives of any Indian Tribe or Native Hawaiian organization not identified in this notice that wish to request transfer of control of these associated funerary objects should submit a written request with information in support of the request to Nancy Rosoff, Andrew W. Mellon Senior Curator, Arts of the Americas, Brooklyn Museum, 200 Eastern Parkway, Brooklyn, NY 11238, telephone (718) 501-6283, email nancy.rosoff@brooklynmuseum.org, by September 24, 2018. After that date, if no additional requestors have come forward, transfer of control of the associated funerary objects to The Tribes may proceed.

The Brooklyn Museum is responsible for notifying The Consulted Tribes that this notice has been published.

Dated: July 30, 2018.
Melanie O'Brien,
Manager, National NAGPRA Program.

[FR Doc. 2018-18203 Filed 8-22-18; 8:45 am]

BILLING CODE 4312-52-P